DEPARTMENT OF ENERGY

Federal Energy Regulatory Commission

Combined Notice of Filings

Take notice that the Commission has received the following Natural Gas Pipeline Rate and Refund Report filings:

Filings Instituting Proceedings

Docket Numbers: RP17-838-000.

Applicants: Kern River Gas Transmission Company.

Description: Kern River Gas Transmission Company submits tariff filing per 154.204: 2017 June Citadel Negotiated Rate to be effective 6/23/2017.

Filed Date: 06/22/2017.

Accession Number: 20170622-5158.

Comment Date: 5:00 p.m. Eastern Time on Wednesday, July 5, 2017.

Docket Numbers: RP17-839-000.

Applicants: Kern River Gas Transmission Company.

Description: Kern River Gas Transmission Company submits tariff filing per 154.204: 2017 June Exelon Negotiated Rate to be effective 6/24/2017.

Filed Date: 06/23/2017.

Accession Number: 20170623-5046.

Comment Date: 5:00 p.m. Eastern Time on Wednesday, July 5, 2017.

Docket Numbers: RP17-840-000.

Applicants: Rockies Express Pipeline LLC.

Description: Rockies Express Pipeline LLC submits tariff filing per 154.204: Neg Rate 2017-06-23 ConocoPhillips to be effective 6/24/2017.

Filed Date: 06/23/2017.

Accession Number: 20170623-5152.

Comment Date: 5:00 p.m. Eastern Time on Wednesday, July 5, 2017.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 26, 2017.
Nathaniel J. Davis, Sr.,
Deputy Secretary.

[FR Doc. 2017-13963 Filed 6-30-17; 8:45 am]

BILLING CODE 6717-01-P